ARCHITECTURAL AND TRANSPORTATION BARRIERS COMPLIANCE BOARD

Performance Review Board Membership

AGENCY: Architectural and Transportation Barriers Compliance Board.

ACTION: Notice.

SUMMARY: Notice is given of the appointment of members to a performance review board for Architectural and Transportation Barriers Compliance Board.

FOR FURTHER INFORMATION CONTACT: Lawrence W. Roffee, Executive Director, Architectural and Transportation Barriers Compliance Board, 1331 F Street, NW., Suite 1000, Washington, DC 20004-1111. Telephone (202) 272-0001.

SUPPLEMENTARY INFORMATION: Section 4314(c) of Title 5, U.S.C., requires each agency to establish, in accordance with regulations, one or more Senior Executive Service (SES) performance review boards. The function of the boards is to review and evaluate the initial appraisal of senior executives' performance and make recommendations to the appointing authority relative to the performance of these executives. Because of its small size, the Architectural and Transportation Barriers Compliance Board has appointed SES career appointees from other Federal boards to serve on its performance review board. The members of the performance review board for the Architectural and Transportation Barriers Compliance Board are:

• Mary L. Johnson, General Counsel, National Mediation Board;

• Joel R. (Rick) Schapira, Deputy General Counsel, Defense Nuclear Facilities Safety Board;

• Debra Carr, Associate Deputy Staff Director, U.S. Commission on Civil Rights.

Lawrence W. Roffee,
Executive Director.

[FR Doc. E8-6586 Filed 3-31-08; 8:45 am]

BILLING CODE 8150-01-P